Proclamation 8426 of September 30, 2009

National Disability Employment Awareness Month, 2009

By the President of the United States of America

A Proclamation

Fair access to employment is a fundamental right of every American, including the 54 million people in this country living with disabilities. A job can provide financial stability, help maximize our potential, and allow us to achieve our dreams. As Americans, we possess a range of vocational opportunities to make the most of our talents and succeed in a chosen career; those with disabilities are entitled to the same opportunities. During National Disability Employment Awareness Month, we recommit ourselves to implementing effective policies and practices that increase employment opportunities for individuals with disabilities.

In the past half-century, we have made great strides toward providing equal employment opportunities in America, but much work remains to be done. As part of that continuing effort, we must seek to provide opportunities for individuals with disabilities. Only then can Americans with disabilities achieve full participation in the workforce and reach the height of their ambition.

My Administration is committed to promoting positive change for every American, including those with disabilities. The Federal Government and its contractors can lead the way by implementing effective employment policies and practices that increase opportunities and help workers achieve their full potential. Across this country, millions of people with disabilities are working or want to work. We must ensure they have access to the support and services they need to succeed.

Recognizing the need for equal employment opportunities, we must also strengthen and expand the educational opportunities for individuals with disabilities. The American Recovery and Reinvestment Act substantially increased funding for the Individuals with Disabilities Education Act, and provided more than $500 million for vocational rehabilitation services, including job training, education, and placement. If we are to build a world free from unnecessary barriers, stereotypes, and discrimination, we must ensure that every American receives an education that prepares him or her for future success.

Each day, Americans with disabilities play a critical role in forging and shaping the identity of our Nation. Their contributions touch us all through personal experience or through that of a family member, neighbor, friend, or colleague. We grow stronger as a Nation when Americans feel the dignity conferred by having the ability to support themselves and their families through productive work. This month, we rededicate ourselves to fostering an inclusive work culture that welcomes the skills and talents of all qualified employees.

NOW, THEREFORE, I, BARACK OBAMA, President of the United States of America, by virtue of the authority vested in me by the Constitution and the laws of the United States, do hereby proclaim October 2009, as National Disability Employment Awareness Month. I call on all Americans to celebrate the contributions of individuals with disabilities to our workplaces and communities, and to promote the employment of individuals with disabilities to create a better, more inclusive America, one in which every person is rightly recognized for his or her abilities and accomplishments.

IN WITNESS WHEREOF, I have hereunto set my hand this thirtieth day of September, in the year of our Lord two thousand nine, and of the Independence of the United States of America the two hundred and thirty-fourth.

[FR Doc. E9-24201

Filed 10-5-09; 8:45 am]

Billing code 3195-W9-P